DEPARTMENT OF ENERGY

Federal Energy Regulatory Commission

Combined Notice of Filings #1

Take notice that the Commission received the following electric corporate filings:

Docket Numbers: EC21-11-000.

Applicants: AL Solar A, LLC, Five Points Solar Park LLC.

Description: Application for Authorization Under Section 203 of the Federal Power Act, et al. of AL Solar A, LLC, et al.

Filed Date: 10/21/20.

Accession Number: 20201021-5148.

Comments Due: 5 p.m. ET 11/12/20.

Take notice that the Commission received the following exempt wholesale generator filings:

Docket Numbers: EG21-11-000.

Applicants: Nutmeg Solar, LLC.

Description: Notice of Self-Certification of Exempt Wholesale Generator Status of Nutmeg Solar, LLC.

Filed Date: 10/22/20.

Accession Number: 20201022-5078.

Comments Due: 5 p.m. ET 11/12/20.

Take notice that the Commission received the following electric rate filings:

Docket Numbers: ER19-5-005.

Applicants: Commonwealth Edison Company, PJM Interconnection, L.L.C.

Description: Compliance filing: ComEd submits Compliance Filing in ER19-5 to be effective 6/1/2020.

Filed Date: 10/21/20.

Accession Number: 20201021-5119.

Comments Due: 5 p.m. ET 11/12/20.

Docket Numbers: ER19-6-006.

Applicants: Delmarva Power & Light Company, PJM Interconnection, L.L.C.

Description: Compliance filing: Delmarva submits Compliance Filing in ER19-6 to be effective 6/1/2020.

Filed Date: 10/21/20.

Accession Number: 20201021-5122.

Comments Due: 5 p.m. ET 11/12/20.

Docket Numbers: ER19-14-005.

Applicants: Baltimore Gas and Electric Company, PJM Interconnection, L.L.C.

Description: Compliance filing: BGE submits Compliance Filing in ER19-14 to be effective 6/1/2020.

Filed Date: 10/21/20.

Accession Number: 20201021-5132.

Comments Due: 5 p.m. ET 11/12/20.

Docket Numbers: ER19-18-005.

Applicants: Atlantic City Electric Company, PJM Interconnection, L.L.C.

Description: Compliance filing: ACE submits Compliance Filing in ER19-18 to be effective 6/1/2020.

Filed Date: 10/21/20.

Accession Number: 20201021-5125.

Comments Due: 5 p.m. ET 11/12/20.

Docket Numbers: ER19-1475-004.

Applicants: Potomac Electric Power Company, PJM Interconnection, L.L.C.

Description: Compliance filing: Pepco submits Compliance Filing in ER19-1475 to be effective 6/1/2020.

Filed Date: 10/22/20.

Accession Number: 20201022-5081.

Comments Due: 5 p.m. ET 11/12/20.

Docket Numbers: ER19-1553-005.

Applicants: Southern California Edison Company.

Description: Compliance filing: Compliance Filing—Appendix XII Stakeholder Review Process to be effective 9/23/2020.

Filed Date: 10/22/20.

Accession Number: 20201022-5070.

Comments Due: 5 p.m. ET 11/12/20.

Docket Numbers: ER21-61-001.

Applicants: El Paso Electric Company.

Description: Compliance filing: WECC Soft Cap Justification to be effective N/A.

Filed Date: 10/21/20.

Accession Number: 20201021-5130.

Comments Due: 5 p.m. ET 11/12/20.

Docket Numbers: ER21-173-000.

Applicants: PJM Interconnection, L.L.C.

Description: § 205(d) Rate Filing: First Revised ISA, Service Agreement No. 1504; Queue No. AE1-178 to be effective 9/21/2020.

Filed Date: 10/21/20.

Accession Number: 20201021-5126.

Comments Due: 5 p.m. ET 11/12/20.

Docket Numbers: ER21-174-000.

Applicants: Kanstar Transmission, LLC.

Description: Tariff Cancellation: Cancellation of Kanstar Database to be effective 10/31/2020.

Filed Date: 10/22/20.

Accession Number: 20201022-5000.

Comments Due: 5 p.m. ET 11/12/20.

Docket Numbers: ER21-175-000.

Applicants: Midwest Power Transmission Arkansas, LLC.

Description: Tariff Cancellation: Cancellation of Midwest Power Transmission Ark. Database to be effective 10/31/2020.

Filed Date: 10/22/20.

Accession Number: 20201022-5001.

Comments Due: 5 p.m. ET 11/12/20.

Docket Numbers: ER21-176-000.

Applicants: Golden Springs Development Company LLC.

Description: Appeal for Relief from Assessed Penalty of Electric of Golden Springs Development Company LLC.

Filed Date: 10/19/20.

Accession Number: 20201019-5162.

Comments Due: 5 p.m. ET 11/9/20.

Docket Numbers: ER21-177-000.

Applicants: Midcontinent Independent System Operator, Inc., Michigan Electric Transmission Company.

Description: § 205(d) Rate Filing: 2020-10-22_SA 3132 METC-Wolverine T-T 1st Rev Appendix to be effective 6/1/2018.

Filed Date: 10/22/20.

Accession Number: 20201022-5003.

Comments Due: 5 p.m. ET 11/12/20.

Docket Numbers: ER21-178-000.

Applicants: Alabama Power Company.

Description: § 205(d) Rate Filing: Amendment to Southern's Tariff Vol. No. 4 to add JEA BAA Mitigation to be effective 10/23/2020.

Filed Date: 10/22/20.

Accession Number: 20201022-5041.

Comments Due: 5 p.m. ET 11/12/20.

Docket Numbers: ER21-179-000.

Applicants: Deuel Harvest Wind Energy LLC.

Description: § 205(d) Rate Filing: Revised Market-Based Rate Tariff Filing to be effective 12/22/2020.

Filed Date: 10/22/20.

Accession Number: 20201022-5047.

Comments Due: 5 p.m. ET 11/12/20.

Docket Numbers: ER21-180-000.

Applicants: PJM Interconnection, L.L.C.

Description: § 205(d) Rate Filing: Original ISA, Service Agreement No. 5814; Queue No. AD1-041 to be effective 9/29/2020.

Filed Date: 10/22/20.

Accession Number: 20201022-5052.

Comments Due: 5 p.m. ET 11/12/20.

Docket Numbers: ER21-181-000.

Applicants: Contrail Wind Project, LLC.

Description: § 205(d) Rate Filing: Revised Market-Based Rate Tariff to be effective 12/22/2020.

Filed Date: 10/22/20.

Accession Number: 20201022-5054.

Comments Due: 5 p.m. ET 11/12/20.

Docket Numbers: ER21-182-000.

Applicants: Crescent Wind LLC.

Description: § 205(d) Rate Filing: Revised Market-Based Rate Tariff Filing to be effective 12/22/2020.

Filed Date: 10/22/20.

Accession Number: 20201022-5056.

Comments Due: 5 p.m. ET 11/12/20.

Docket Numbers: ER21-183-000.

Applicants: Nutmeg Solar, LLC.

Description: Baseline eTariff Filing: Nutmeg Solar, LLC Application for MBR Authority to be effective 11/15/2020.

Filed Date: 10/22/20.

Accession Number: 20201022-5062.

Comments Due: 5 p.m. ET 11/12/20.

Docket Numbers: ER21-184-000.

Applicants: Alabama Power Company.

Description: § 205(d) Rate Filing: Amendment to Southern's Tariff Vol. No. 4 to remove SCEG BAA Mitigation to be effective 12/31/9998.

Filed Date: 10/22/20.

Accession Number: 20201022-5064.

Comments Due: 5 p.m. ET 11/12/20.

Docket Numbers: ER21-185-000.

Applicants: Southwestern Electric Power Company.

Description: § 205(d) Rate Filing: SWEPCO-ETEC Deep East Loop Contracting Services Agreement—Amended to be effective 10/1/2020.

Filed Date: 10/22/20.

Accession Number: 20201022-5066.

Comments Due: 5 p.m. ET 11/12/20.

Docket Numbers: ER21-186-000.

Applicants: Tampa Electric Company.

Description: § 205(d) Rate Filing: Third Revised Rate Schedule FERC No. 7—Amendment to Exhibit A to be effective 10/22/2020.

Filed Date: 10/22/20.

Accession Number: 20201022-5080.

Comments Due: 5 p.m. ET 11/12/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2020.
Nathaniel J. Davis, Sr.,
Deputy Secretary.

[FR Doc. 2020-23862 Filed 10-27-20; 8:45 am]

BILLING CODE 6717-01-P